ENVIRONMENTAL PROTECTION AGENCY

[FRL-7900-5]

Science Advisory Board Staff Office; Notification of an Upcoming Science Advisory Board Meeting

AGENCY: Environmental Protection Agency (EPA).

ACTION: Notice.

SUMMARY: The EPA Science Advisory Board (SAB) Staff Office announces a public face-to-face meeting of the chartered SAB. The Board will discuss (1) science issues facing EPA Regions, and (2) may review and approve of one or more draft SAB Committee reports.

DATES: May 11-12, 2005. A public meeting of the Board will be held from 8:30 a.m. to 5:30 p.m (central time) on May 11, 2005, and from 8:30 a.m. to 9:30 a.m. (central time) on May 12, 2005.

ADDRESSES: The May 11, 2005 meeting of the Board will be held at the U.S. EPA Region 6 Headquarters Office, 1445 Ross Avenue, Dallas, TX 75202. The May 12, 2005 meeting will be accessible for the public by telephone only.

FOR FURTHER INFORMATION CONTACT: Members of the public who wish to obtain further information regarding this meeting, including the telephone conference, or the SAB may contact Mr. Thomas O. Miller, Designated Federal Officer (DFO), U.S. EPA Science Advisory Board via phone (202-343-9982) or e-mail at miller.tom@epa.gov. Those wishing to obtain the call-in number for the May 12, 2005 report review session should contact the DFO.

The SAB Mailing address is: U.S. EPA, Science Advisory Board (1400F), 1200 Pennsylvania Avenue, NW., Washington, DC 20460. General information about the SAB, as well as any updates concerning the meeting announced in this notice-including the specific draft report(s) to be reviewed, may be found on the SAB Web site at: http://www.epa.gov/sab.

SUPPLEMENTARY INFORMATION:

Background on the Board Meeting: At this meeting, the Science Advisory Board will focus on the following: (a) Science programs of EPA Region 6, and (b) review one or more draft SAB Panel reports. Any additional items that might be discussed will be reflected in the meeting agenda that will be posted on the SAB Web site prior to the meeting.

(a) EPA Regional Science Issues—The SAB will receive briefings from, and discuss scientific issues, with Regional senior leadership and scientists. These are designed to (1) inform the SAB about regional science issues and concerns; (2) identify opportunities for future SAB and Regional office interactions on topics of interest; and (3) provide the regions with insights into the overall SAB role in advising the Agency on the technical underpinnings of the Agency's science and environmental decisions.

(b) Review of SAB Committee Draft Reports: The Board will review at least one draft SAB report at this meeting. Information on any draft reports to be reviewed, as well as the draft reports, will be on the SAB Web site at: http://www.epa.gov/sab/drrep.htm prior to the meeting.

Availability of Review Material for the Board Meeting: Documents that are the subject of this meeting are available from the SAB Staff Office Web site at: http://www.epa.gov/sab.

Procedures for Providing Public Comment: It is the policy of the EPA Science Advisory Board Staff Office to accept written public comments of any length, and to accommodate oral public comments whenever possible. The EPA SAB Staff Office expects that public statements presented at Board meetings will not be repetitive of previously submitted oral or written statements. Oral Comments: In general, each individual or group requesting an oral presentation at a face-to-face meeting will be limited to a total time of ten minutes (unless otherwise indicated). For conference call meetings, opportunities for oral comment will usually be limited to no more than three minutes per speaker and no more than fifteen minutes total. Interested parties should contact the Designated Federal Official (DFO) in writing via e-mail at least one week prior to the meeting in order to be placed on the public speaker list for the meeting. Speakers should bring at least 35 copies of their comments and presentation slides for distribution to the participants and public at the meeting. Written Comments: Although written comments are accepted until the date of the meeting (unless otherwise stated), written comments should be received in the SAB Staff Office at least one week prior to the meeting date so that the comments may be made available to the committee for their consideration. Comments should be supplied to the appropriate DFO at the address/contact information above in the following formats: One hard copy with original signature, and one electronic copy via e-mail (acceptable file format: Adobe Acrobat, WordPerfect, Word, or Rich Text files (in IBM-PC/Windows 2000/98 format). Those providing written comments and who attend the meeting are also asked to bring 35 copies of their comments for public distribution.

Meeting Accommodations: Individuals requiring special accommodation to access these meetings, should contact the relevant DFO at least five business days prior to the meeting so that appropriate arrangements can be made.

Dated: April 11, 2005.
Vanessa T. Vu,
Director, EPA Science Advisory Board Staff Office.

[FR Doc. 05-7575 Filed 4-14-05; 8:45 am]

BILLING CODE 6560-50-P